DEPARTMENT OF HOMELAND SECURITY

[Docket No. DHS-2017-0030]

Privacy Act of 1974; System of Records

AGENCY: Department of Homeland Security, Privacy Office.

ACTION: Rescindment of a System of Records Notice.

SUMMARY: In accordance with the Privacy Act of 1974, the Department of Homeland Security is giving notice that it proposes to rescind the Department of Homeland Security/Federal Emergency Management Agency's Privacy Act system of records notice, “Letter of Map Amendment System (LOMA), DHS/FEMA/NFIP/LOMA-1”, 71 FR 7990 (Feb. 15, 2006), which covered applicants who were seeking a Letter of Map Amendment as part of FEMA's National Flood Insurance Program (NFIP) Letter of Map Amendment (LOMA) system.

DATES: These changes will take effect upon publication.

ADDRESSES: You may submit comments, identified by docket number DHS-2017-0030 by one of the following methods:

• Federal e-Rulemaking Portal: http://www.regulations.gov. Follow the instructions for submitting comments.

• Fax: 202-343-4010.

• Mail: Philip S. Kaplan, Chief Privacy Officer, Privacy Office, Department of Homeland Security, Washington, DC 20528-0655.

FOR FURTHER INFORMATION CONTACT: For general questions, please contact: William Holzerland, (202) 212-7719, Senior Director for Information Management, Federal Emergency Management Agency, 500 C Street SW., Washington, DC 20472. For privacy questions, please contact: Philip S. Kaplan, (202) 343-1717, Chief Privacy Officer, Privacy Office, Department of Homeland Security, Washington, DC 20528-0655.

SUPPLEMENTARY INFORMATION: Pursuant to the provisions of the Privacy Act of 1974, 5 U.S.C. 552a, and as part of its ongoing integration and management efforts, the Department of Homeland Security (DHS) Federal Emergency Management Agency (FEMA) is rescinding the system of records notice, “Letter of Map Amendment System (LOMA), DHS/FEMA/NFIP/LOMA-1”, which covered applicants who were seeking a letter of map amendment as part of FEMA's National Flood Insurance Program (NFIP) Letter of Map Amendment (LOMA) system.

FEMA will continue to collect and maintain records regarding FEMA's Letters of Map Amendments and will rely upon the newly-created FEMA system of records notice titled “DHS/FEMA-014 Hazard Mitigation Planning and Flood Mapping Products and Services System of Records” that is also published in this issue of the Federal Register.

Eliminating this system of records notice will have no adverse impacts on individuals, but will promote the overall streamlining and management of DHS Privacy Act record systems.

System Name and Number:

“Letter of Map Amendment System (LOMA), DHS/FEMA/NFIP/LOMA-1.”

HISTORY:

71 FR 7990 (Feb. 15, 2006).

Philip S. Kaplan,
Chief Privacy Officer, Department of Homeland Security.

[FR Doc. 2017-23204 Filed 10-24-17; 8:45 am]

BILLING CODE 9110-17-P